NATIONAL AERONAUTICS AND SPACE ADMINISTRATION

[Notice (00- 006]

NASA Advisory Council, Life and Microgravity Sciences and Applications Advisory Committee, Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee.

DATES: Thursday, February 10, 2000, 10:00 a.m. to 5:00 p.m.; and Friday, February 11, 2000, 8:00 a.m. to 12:00 Noon.

ADDRESSES: National Aeronautics and Space Administration Headquarters, 300 E Street, SW, MIC-7, Room 7H46, Washington, DC 20546.

FOR FURTHER INFORMATION CONTACT: Dr. Stephen C. Davison, Code UG, National Aeronautics and Space Administration, Washington, DC 20546, 202/358-0647.

SUPPLEMENTARY INFORMATION: The meeting will be open to the public up to the seating capacity of the room. The agenda for the meeting is as follows:

—Action Status

—Update: Office of Life & Microgravity Sciences and Applications

—EVA Safety, Radiation Protection, DCS Risk Mitigation, Reduced Pre-Breath with Exercise, and ISS 1st Increment Crew Health and Safety

—Strategic Planning and NASA's Grand Questions

—OMB View of OLMSA and ISS Utilization

—Commercial Activities

—NGO Report/NRC

—Discussion of Committee Findings and Recommendations

It is imperative that the meeting be held on this date to accommodate the scheduling priorities of the key participants. Visitors will be requested to sign a visitor's register.

Dated: January 14, 2000.
Matthew M. Crouch,
Advisory Committee Management Officer, National Aeronautics and Space Administration.

[FR Doc. 00-1411 Filed 1-20-00; 8:45 am]

BILLING CODE 7510-01-U